DEPARTMENT OF COMMERCE

National Oceanic and Atmospheric Administration (NOAA)

Research and Development Enterprise Committee (RDEC); Notice of Availability of NOAA Research and Development Vision Areas: 2020-2026

AGENCY: Office of Oceanic and Atmospheric Research (OAR), National Oceanic and Atmospheric Administration (NOAA), Department of Commerce (DOC).

ACTION: Notice of availability of the NOAA Research and Development Vision Areas: 2020-2026; and associated response to public comments.

SUMMARY: Notice is hereby given that the National Oceanic and Atmospheric Administration (NOAA) has published the NOAA Research and Development Vision Areas: 2020-2026. Notices for public comments during the drafting of the document were published in the Federal Register on December 10, 2018 (83 FR 63482) and July 10, 2019 (84 FR 33240). NOAA has also released the Response to Public Comments collected during the public comment periods.

DATES: This notice is applicable June 15, 2020.

ADDRESSES: Copies of the NOAA Research and Development Vision Areas: 2020-2026 and Response to Public Comments can be downloaded or viewed on the internet at https://nrc.noaa.gov/CouncilProducts/ResearchPlans.aspx.

FOR FURTHER INFORMATION CONTACT: Dr. Gary Matlock, Deputy Assistant Administrator for Science, NOAA, Rm. 11461, 1315 East-West Highway, Silver Spring, Maryland 20910. (Phone: 301-734-1185, Email: gary.c.matlock@noaa.gov); or visit the NOAA RDEC website at https://nrc.noaa.gov/About/Committees.aspx.

SUPPLEMENTARY INFORMATION: NOAA R&D is an investment in the scientific knowledge and technology that will allow the United States to protect lives and property, sustain a strong economy, manage natural resources, and foster improved readiness in response to challenges from the rapidly changing environment. The NOAA Research and Development Vision Areas: 2020-2026 will provide a common understanding among NOAA's leadership, workforce, partners, and constituents on the value and direction of NOAA R&D activities. Public input was solicited twice during the development of the draft document. NOAA's response to the public comments is available electronically on the website listed in the ADDRESSES section of this notice.

Dated: June 9, 2020.
Eric Locklear,
Deputy Chief Financial Officer/Administrative Officer, Office of Oceanic and Atmospheric Research, National Oceanic and Atmospheric Administration.

[FR Doc. 2020-12857 Filed 6-12-20; 8:45 am]

BILLING CODE 3510-KD-P